DEPARTMENT OF COMMERCE

National Oceanic and Atmospheric Administration

[RTID 0648-XE448]

Request for Nominations to the Northwest Atlantic Fisheries Organization Consultative Committee

AGENCY: National Marine Fisheries Service (NMFS), National Oceanic and Atmospheric Administration (NOAA), U.S. Department of Commerce.

ACTION: Request for nominations.

SUMMARY: NMFS is seeking nominations for qualified individuals to be appointed to serve as members of the Northwest Atlantic Fisheries Organization Consultative Committee. The purpose of this body is to ensure that the interests of U.S. stakeholders are considered in the development of positions and policy relative to U.S. participation in the Northwest Atlantic Fisheries Organization (NAFO). Self-nominations will be accepted.

DATES: Nominations will be accepted at any time.

ADDRESSES: Please submit nominations electronically to Shannah Jaburek, at the NMFS Greater Atlantic Regional Fisheries Office via email at Shannah.Jaburek@noaa.gov.

FOR FURTHER INFORMATION CONTACT: Shannah Jaburek by email at Shannah.Jaburek@noaa.gov, or by phone at 978-282-8456; or Patrick E. Moran by email at Pat.Moran@noaa.gov, or by phone at 301-427-8370.

SUPPLEMENTARY INFORMATION: NAFO is an international regional fisheries management organization that coordinates scientific study and cooperative management of the fisheries resources of the northwest Atlantic Ocean, excluding salmon, tunas/marlins, whales, and sedentary species (e.g., shellfish). NAFO was established in 1979 by the Convention on Future Multilateral Cooperation in the Northwest Atlantic Fisheries. The United States acceded to the Convention in 1995 and has participated actively in NAFO since that time. In 2005, NAFO launched a reform effort to amend the Convention in order bring it more in line with the principles of modern fisheries management. As a result of these efforts, the Amendment to the Convention on Future Multilateral Cooperation in the Northwest Atlantic Fisheries entered into force in May 2017.

NAFO currently has 13 Contracting Parties, including Canada, Cuba, Denmark (in respect of Faroe Islands and Greenland), European Union, France (in respect of St. Pierre and Miquelon), Iceland, Japan, Norway, Republic of Korea, Russian Federation, Ukraine, United Kingdom, and the United States.

16 U.S.C. 5607 provides that the Secretaries of Commerce and State shall jointly establish a NAFO Consultative Committee (NCC) to advise the Secretaries of Commerce and State on issues related to the NAFO Convention. Membership in the NCC is open to representatives from the New England and Mid-Atlantic Fishery Management Councils, the States represented on those Councils, the Atlantic States Marine Fisheries Commission, the fishing industry, the seafood processing industry, and others knowledgeable and experienced in the conservation and management of fisheries in the northwest Atlantic Ocean. Members are appointed to a 2-year term and are eligible for reappointment. The NCC is exempted from the Federal Advisory Committee Act with respect to carrying out their consultation and advisory functions under 16 U.S.C. 5601 et seq. NCC members are invited to attend all non-executive meetings of the U.S. Commissioners and, at such meetings, are given an opportunity to be heard on proposed programs of study and investigation, reports, recommendations, and regulations of issues relating to the Act and proceedings of NAFO. In addition, NCC members may attend all public meetings of the NAFO Commission and any other meetings to which they are invited.

If you are interested in becoming or nominating a member of the NCC, please contact Shannah Jaburek or Patrick E. Moran (see FOR FURTHER INFORMATION CONTACT section) for additional details. The NAFO Annual Meeting is held in September of each year. Additional information about NAFO and the annual meetings can be found at: https://www.nafo.int/Meetings/AM.

Dated: July 23, 2025.
Alexa Cole,
Director, Office of International Affairs, Trade, and Commerce National Marine Fisheries Service.

[FR Doc. 2025-14137 Filed 7-25-25; 8:45 am]

BILLING CODE 3510-22-P